DEPARTMENT OF VETERANS AFFAIRS

Veterans Health Administration

Funding Availability Under Supportive Services for Veteran Families Program

AGENCY: Department of Veterans Affairs.

ACTION: Notice; correction.

SUMMARY: The Department of Veterans Affairs (VA) published a Notice of Funding Availability in the Federal Register on January 14, 2014, that contained an error. Specifically, the table on page 2539 mistakenly listed one of the priority 1 Continuums of Care (CoCs) as list “KS-501 as Kansas City/Independence/Lee's Summit/Jackson County CoC.” This document corrects the error by replacing, on line 42 of the table, “Kansas City/Independence/Lee's Summit/Jackson County CoC” with “Kansas City/Wyandotte CoC” in the second column.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

William F. Russo,
Deputy Director, Office of Regulation and Policy, Office of the General Counsel, Department of Veterans Affairs.

[FR Doc. 2014-03953 Filed 2-24-14; 8:45 am]

BILLING CODE 8320-01-P